DEPARTMENT OF EDUCATION

Submission for OMB Review; Comment Request

AGENCY: Department of Education.

ACTION: Correction notice.

SUMMARY: On September 11, 2008, a 30-day notice published a comment period notice in the Federal Register, (Page 52848, Column 3) for the information collection, “Leveraging Educational Technology to Keep America Competitive: National Teacher Technology Study.” In that notice 2,300 responses and 750 burden hours were provided. This correction notice provides the correct number of responses as 3,285 and 882 burden hours. The IC Clearance Official Regulatory Management Services, Office of Management, hereby issues a correction notice as required by the Paperwork Reduction Act of 1995.

Dated: September 11, 2008.
Angela C. Arrington,
IC Clearance Official, Regulatory Information Management Services, Office of Management.

[FR Doc. E8-21609 Filed 9-17-08; 8:45 am]

BILLING CODE 4000-01-P